DEPARTMENT OF DEFENSE

Office of the Secretary

[Docket ID: DoD-2024-OS-0012]

Proposed Collection; Comment Request

AGENCY: Office of Under the Secretary of Defense for Personnel and Readiness, (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 15, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Lisa Davis, Deputy Director Health and Resilience, 4800 Mark Center Drive, Suite 06E22, Alexandria VA 22350-4000, elizabeth.h.davis18.civ@mail.mil, 703-338-8926.

SUPPLEMENTARY INFORMATION:

Title; Associated Form; and OMB Number: Workplace and Gender Relations Survey of Military Members; OMB Control Number: 0704-0615.

Needs and Uses: The legal requirements for the Workplace and Gender Relations (WGR) surveys of military families can be found in the following:

• 10 U.S.C. 481

• Ronald W. Reagan National Defense Authorization Act (NDAA) for Fiscal Year (FY) 2005

• Public Law 111-383, section 1631

• NDAA for FY 2013, section 570

• 10 U.S.C. 2358

Sexual assault, sexual harassment, and gender discrimination remain a major concern across the DoD and for members of Congress. In February 2004, the USD(P&R) testified before the Senate Armed Services Committee on the prevalence of sexual assault in the DoD and the programs and policies planned to address the issues. In accordance with legislative requirements, the USD(P&R) issued memoranda to the Services that provides DoD policy guidance on sexual assault that included a new standard definition, response capability, training requirements, response actions, and reporting guidance throughout the Department. The Sexual Assault Prevention and Response Office supported implementation of the new policy and requires data to assess the prevalence of sexual assault in the Department and the effectiveness of the programs they have implemented.

The WGR surveys assess the attitudes and opinions of military members on issues relating to sexual harassment, gender discrimination, sexual assault, as well as the culture and climate of the units/organizations in which individuals serve. The surveys provide the policy offices of the USD(P&R) with current data on (1) the positive and negative trends for professional and personal relationships between Service members; (2) the specific types of assault that have occurred and the number of times in the preceding year; (3) the effectiveness of DoD policies designed to improve professional relationships between male and female Service members; (4) the effectiveness of current processes for complaints, reports, and investigations; and, (5) specific issues related to sexual harassment, sexual assault, and gender discrimination that may inform the Department's prevention and response efforts.

Affected Public: Individuals and households.

Annual Burden Hours: 102,150.

Number of Respondents: 204,300.

Responses per Respondent: 1.

Annual Responses: 204,300.

Average Burden per Response: 30 minutes.

Frequency: Biennially.

The target population for the WGR includes active duty members serving in the Active component from the Army, Navy, Marine Corps, Air Force, and Coast Guard as well as Reserve component members in the Selected Reserve (in Reserve Units, Active Guard/Reserve (AGR/FTS/AR Title 10 and Title 32), and Individual Mobilization Augmentee (IMA) programs) from the Army National Guard, U.S. Army Reserve, U.S. Navy Reserve, U.S. Marine Corps Reserve, Air National Guard, U.S. Air Force Reserve, and Coast Guard Reserve. The Office of People Analytics (OPA) will administer the WGR survey via the web. The survey is administered via proprietary software developed by OPA's operations contractor. To reduce respondent burden, web-based surveys use “smart skip” technology to ensure respondents only answer questions that are applicable to them.

Dated: February 7, 2024.
Aaron T. Siegel,
Alternate OSD Federal Register Liaison Officer, Department of Defense.

[FR Doc. 2024-02949 Filed 2-12-24; 8:45 am]

BILLING CODE 6001-FR-P